DEPARTMENT OF COMMERCE

Bureau of the Census

2020 Census Tribal Consultation Meetings

AGENCY: Bureau of the Census, Department of Commerce.

ACTION: Notice of 2020 Census Tribal Consultation meetings.

SUMMARY: The Bureau of the Census (Census Bureau) is continuing tribal consultation meetings through calendar year 2019 with federally recognized tribes as part of our ongoing government-to-government relationships. The Census Bureau received valuable feedback during our 2020 Census tribal consultation meetings held in 2015 and 2016, and the Census Bureau is continuing its communication and information on updates on the 2020 Census. The Census Bureau is planning one consultation meeting and one national webinar with federally recognized tribes. These meetings will provide a forum for tribes to share insights, make recommendations, and discuss concerns related to the 2020 Census data products.

DATES: The Census Bureau will conduct information and consultation sessions on Wednesday, September 25, 2019, at 4:00 p.m. Eastern Daylight Time; and Monday, October 21, 2019, at 9:00-11:00 a.m. Mountain Standard Time.

Any questions or topics to be considered in the tribal consultation meetings must be received in writing by September 25, 2019.

ADDRESSES: The Census Bureau will conduct the consultation sessions at the following locations:

• The September 25 national webinar will be conducted at 4:00 p.m. EDT, via webcast at: WebEx Login Link: https://censusevent.webex.com/censusevent/onstage/g.php?MTID=e0e21564092e8928ab763dd02ba6e40f7.

Dial-in: 800-857-8887. Participant passcode: 5484613.

• The October 21 consultation session will be held at the National Congress of American Indians annual conference, Albuquerque Convention Center, 401 2nd St NW, Albuquerque, NM 87102.

Please direct all written comments to Dee Alexander, Tribal Affairs Coordinator, Office of Congressional and Intergovernmental Affairs, Intergovernmental Affairs Office, U.S. Census Bureau, Washington, DC 20233; telephone (301) 763-9335; fax (301) 763-3780; or by email at Dee.A.Alexander@census.gov or, at ocia.tao@census.gov.

FOR FURTHER INFORMATION CONTACT: Dee Alexander, Tribal Affairs Coordinator, Office of Congressional and Intergovernmental Affairs, Intergovernmental Affairs Office, U.S. Census Bureau, Washington, DC 20233; telephone (301) 763-9335; fax (301) 763-3780; or by email at Dee.A.Alexander@census.gov or at ocia.tao@census.gov.

SUPPLEMENTARY INFORMATION:

Background

The Census Bureau's procedures for outreach, notice and consultation ensure involvement of tribes, to the extent practicable and permitted by law, before making decisions or implementing policies, rules, or programs that affect federally recognized tribal governments. These meetings are open to citizens of federally recognized tribes by invitation.

The Census Bureau's Decennial Directorate and the Intergovernmental Affairs Office is responsible for the development and implementation of outreach and promotion activities to assist in obtaining a complete and accurate census count in 2020 among all residents including the American Indian and Alaska Native populations. This program is one part of the overall outreach and promotion efforts directed at building awareness about the importance of the census and motivating response to the 2020 Census in communities all across the country.

In accordance with Executive Order 13175, Consultation and Coordination with Indian Tribal Governments, issued November 6, 2000, the Census Bureau is adhering to its tribal consultation policy by seeking the input of tribal governments in the planning and implementation of the 2020 Census with the goal of ensuring the most accurate counts and data for the American Indian and Alaska Native population. In that regard, we are seeking comments to the following operational topics:

1. 2020 Census Disclosure Avoidance System (DAS)

2. 2020 Census data products for the American Indian and Alaska Native population

The Census Bureau is transitioning to a new Disclosure Avoidance System (DAS) to protect information provided by respondents on the 2020 Census. The DAS is a new, advanced, and more powerful confidentiality protection system than the Census Bureau has previously used. The DAS employs a rigorous mathematical process to protect respondents' information and identity. The Census Bureau is fully committed to publishing detailed race and ethnicity data from the 2020 Census, including detailed data on the American Indian and Alaska Native populations. These products will be available in a format that uses the detailed self-reported data, including the option for respondents to report as many race categories as apply. The geographic specificity will be limited to areas that meet certain, still to be determined, minimum population standards, as they have in the past. The Census Bureau also will apply the new 2020 Census Disclosure Avoidance System to all data products. Through the webinar and tribal consultation sessions, Census Bureau staff will provide tribal communities with further details on the Census Bureau's plans to modernize its disclosure avoidance methodology for the 2020 Census and potential changes to the 2020 Census data products. For more information on DAS, please see the following URL link: https://www.census.gov/programs-surveys/decennial-census/2020-census/planning-management/memo-series/2020-memo-2019_12.html.

Tribal Consultation Meeting Dates and Times
Date | Time (local time zone) | Location
Wednesday, September 25, 2019 | 4:00 p.m. EST—Eastern Standard Time | WebEx Login Link: https://censusevent.webex.com/censusevent/onstage/g.php?MTID=e0e21564092e8928ab763dd02ba6e40f7. Dial-in: 800-857-8887. Participant passcode: 5484613.
Monday, October 21, 2019 | 9:00-11:00 a.m. Mountain Standard Time | National Congress of American Indians, 67th Annual Convention and Marketplace, Albuquerque Convention Center, Albuquerque, New Mexico, 87102.

Dated: August 20, 2019.
Steven D. Dillingham,
Director, Bureau of the Census.

[FR Doc. 2019-18301 Filed 8-23-19; 8:45 am]

BILLING CODE 3510-07-P